DEPARTMENT OF HEALTH AND HUMAN SERVICES

Centers for Disease Control and Prevention

[30Day-14-13PR]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC or by fax to (202) 395-5806. Written comments should be received within 30 days of this notice.

Proposed Project

Evaluating the Implementation and Outcomes of Policy and Environmental Cancer Control Interventions—New—National Center for Chronic Disease Prevention and Health Promotion (NCCDPHP), Centers for Disease Control and Prevention (CDC).

Background and Brief Description

The National Comprehensive Cancer Control Program (NCCCP) is administered by the Centers for Disease Control and Prevention, National Center for Chronic Disease Prevention and Health Promotion, Division of Cancer Prevention and Control. Through the NCCCP, 65 awardees receive support through cooperative agreements (CDC-RFA-DP12-1205). The current cooperative agreements maintain core comprehensive cancer control (CCC) activities and build on policy, system, and environmental (PSE) change strategies that many NCCCP programs have begun to incorporate into their program plans and initiatives. Awardees provide routine progress reports to CDC which describe their overall objectives and activities (Management Information System for Comprehensive Cancer Control Programs, OMB No. 0920-0841, exp. 3/31/2016).

In 2010, additional pilot funding was provided under CDC-RFA-D10-1017 to 13 of the 65 NCCCP awardees (“1017 awardees”). The additional funds are intended to increase awardees' focus on PSE change strategies relating to cancer control, and to strengthen collaboration with both traditional and nontraditional partners. With additional resources and structure, CDC hopes that 1017 awardees will achieve greater health impact through increased skills and capacity and enhanced interactions with partners. CDC plans to conduct a new information collection to assess whether the 1017 pilot is meeting its goals and to compare the experiences of NCCCP programs funded at both levels of support. The study design includes a Web-based survey of all 65 CCC funded programs, administered at two points in time; a longitudinal case study of 6 of the 1017 programs involving interviews with key awardee staff and NCCCP partners; focus groups with staff who provide technical assistance related to the 1017 program; and a one-time survey of coalition members and strategic partners who are collaborating with 1017 awardees.

Information collection activities are designed to address specific evaluation questions,such as: Did 1017 cooperative agreement funding, training and technical assistance enhance the ability of grantees to inform PSE change as part of comprehensive cancer control?; Did the 1017 cooperative agreement facilitate a shift towards primary prevention?; How did 1017 programs build infrastructure required to develop an environmental scan, policy agenda, evaluation plan, and media plans?; What methods were used by 1017 programs to develop the policy agenda and media plan?; What key outcomes were achieved by 1017 programs?; How did the PSE Workgroups facilitate implementation and achievement of PSE change?; and What lessons have been learned that could inform the expansion of the 1017 program to the other NCCCP-funded programs? Findings will be used to improve program guidance and direct future investments in the NCCCP.

OMB approval is requested for three years. Participation is voluntary and there are no costs to the respondents other than their time. The total estimated annualized burden hours are 161.

Estimated Annualized Burden Hours
Type of respondent | Form name | Number of respondents | Number of responses per respondent | Average burden per response (in hr)
CCC Program Directors | Program Director Web Survey Questionnaire | 43 | 1 | .5
CCC Staff | Key Informant Selection | 2 | 1 | 8
| Key Informant Recruitment/Scheduling | 12 | 1 | 5/60
| Key Informant Interview Guide | 12 | 1 | 1.5
CCC Partners | Key Informant Recruitment/Scheduling | 48 | 1 | 5/60
| Key Informant Interview Guide | 48 | 1 | 1
| Coalition Survey | 87 | 1 | 20/60
| TA Provider Focus Group Guide | 15 | 1 | 1.5

Leroy A. Richardson,
Chief, Information Collection Review Office, Office of Scientific Integrity, Office of the Associate Director for Science, Office of the Director, Centers for Disease Control and Prevention.

[FR Doc. 2014-02669 Filed 2-6-14; 8:45 am]

BILLING CODE 4163-18-P